DEPARTMENT OF COMMERCE

National Oceanic and Atmospheric Administration

[Docket No. 031016260-3260-01; I.D. 091603A]

15 CFR Part 902

RIN 0648-AR71

NOAA Information Collection Requirements; Update and Correction

AGENCY: National Marine Fisheries Service (NMFS), National Oceanic and Atmospheric Administration (NOAA), Commerce.

ACTION: Final rule; technical amendment.

SUMMARY: This final rule, technical amendment, updates and corrects Office of Management and Budget (OMB) control numbers and related regulatory citations for NMFS information collection requirements. Under the Paperwork Reduction Act (PRA), agencies are required to display a current control number assigned by the Director of OMB for each agency information requirement. The intent of this action is to update and correct the NOAA inventory of control numbers so that the inventory reflects the valid OMB control number with its associated regulatory citation for each NMFS information collection requirement.

DATES: This regulation is effective October 28, 2003.

FOR FURTHER INFORMATION CONTACT: Catherine Belli, Fishery Management Specialist, (301) 713-2341.

SUPPLEMENTARY INFORMATION: Pursuant to the Paperwork Reduction Act, Part 902 of title 15 CFR displays control numbers assigned to NMFS information collection requirements by OMB. This part fulfills the requirements of section 3506(c)(1)(B)(i) of the PRA, which requires that agencies display a current control number, assigned by the Director of OMB, for each agency information collection requirement. Portions of 15 CFR 902.1(b) reflect expired or incorrect OMB control numbers. In some cases, the regulations cited have previously been removed from the CFR and, therefore, there are no approved OMB control numbers for those regulations. In addition, the OMB control numbers for some requirements have changed but the obsolete numbers are still reflected in the inventory. Also, when new collection-of-information requirements were previously approved, the final rule implementing the collection-of-information requirement did not update 15 CFR part 902.

Therefore, through this final rule, technical amendment, the inventory of OMB approved control numbers is corrected and updated to reflect the currently valid control numbers. All of the collection-of-information requirements displayed in § 902.1(b) have previously been submitted to OMB for approval during implementation of regulations appearing in the individual parts of title 50. Therefore, this final rule, technical amendment does not involve any new reporting or recordkeeping requirements.

Under NOAA Administrative Order 205-11, 7.01, dated December 17, 1990, the Under Secretary for Oceans and Atmosphere has delegated authority to sign material for publication in the Federal Register to the Assistant Administrator for Fisheries, NOAA (AA).

Classification

Pursuant to 5 U.S.C. 553 (b)(B), the AA waives prior notice and opportunity for public comment because this action is a rule of agency organization, procedure or practice. Because this rule makes only minor, non-substantive changes and does not change operating practices in any fishery, it is unnecessary to provide for prior notice and opportunity for public comment. Because this final rule, technical amendment does not constitute a substantive rule, pursuant to 5 U.S.C. 553(d), this final rule is not subject to the 30-day delay in effectiveness. This final rule, technical amendment makes no substantive changes to existing regulations, but rather updates OMB control numbers associated with NMFS information collections, all of which OMB has previously approved during implementation of regulations appearing in the individual parts of title 50 of the Code of Federal Regulations.

Because prior notice and opportunity for public comment are not required pursuant to 5 U.S.C. 553 or any other law, the analytical requirements of the Regulatory Flexibility Act (5 U.S.C. 601 et seq.) are inapplicable. Therefore, a regulatory flexibility analysis is not required and has not been prepared.

This rule is exempt from review under Executive Order 12866.

Notwithstanding any other provision of the law, no person is required to respond to, nor shall any person be subject to a penalty for failure to comply with, a collection of information subject to the requirements of the PRA, unless that collection of information displays a currently valid OMB control number.

List of Subjects in 15 CFR Part 902

Reporting and recordkeeping requirements.

Dated: October 21, 2003.
John Oliver
Deputy Assistant Administrator for Operations, National Marine Fisheries Service.

For the reasons stated in the preamble, 15 CFR chapter IX is amended as follows:

15 CFR Chapter IX

PART 902—NOAA INFORMATION COLLECTION REQUIREMENTS UNDER THE PAPERWORK REDUCTION ACT: OMB CONTROL NUMBERS

1. The authority citation for part 902 continues to read as follows: Authority: 44 U.S.C. 3501 et seq.

2. In § 902.1, the table in paragraph (b) under 50 CFR is amended by:

a. Removing the following CFR parts or sections in the left hand column and their related current OMB control number(s) in the corresponding positions in the right hand column, for: 50 CFR 216.24(d), 216.24(e), 216.114, 216.155, 222.201(c) and (d), 222.202, 222.204 (f) and (g), 229.7, 663.6, 679.4, 679.4(b)(5)(vi), 679.4(k)(6)(iii), 679.4(k)(6)(iv), 679.4(k)(7)(iii), 679.5, 679.5(n)(2)(iii), 679.24, 679.28, 679.28(f)(3)(i), 679.28(f)(3)(ii), 679.28(f)(3)(iii), 679.28(f)(4), (f)(5), and (f)(6), and 679.32;

b. Adding the CFR part or sections in numerical order in the left hand column and its related OMB control number(s) in the corresponding right hand column in numerical order: 50 CFR 216.26, 223.203(b), 229.4, 260.15, 260.36, 260.37, 260.96, 260.97, 300.107, 600.745, 679.4(b), (f), (h), and (i), 679.4(d) and (e), 679.4(l), 679.5(a), 679.5(b), (c), (d), (g), (h), (i), (j), (k), and (m), 679.5(e), (f), and (o), 679.5(l)(1), (l)(2), (l)(3), (l)(4), and (l)(5), 679.5(l)(7), 679.5(n), 679.5(p), 679.24(a), 679.24(e), 679.28(b) and (d), 679.32(c), 679.32(d), 679.32(f), 679.45, 679.61(c) and (f), 679.61(d) and (e), 679.62(b)(3) and (c) and 679.63(a)(2); and,

c. Revising the control number entries in the right hand column for the following parts or section identified in the left hand column: 50 CFR 229.5, 300.34, 300.35, 300.108(a), 300.108(c), 300.125, 622.4, 622.18, 635.5(c), 640.6, 648.8, 648.9, 648.10, 648.58, 648.80, 648.84, 654.6, 660.16, 660.24, 660.25, 660.305, 660.322, 679.4(g), 679.40, 679.43, and 679.50 to read as follows:

(b) Display

CFR part or section where the information collection requirement is located | Current OMB control number (all numbers begin with 0648-)
* * * * * |
50 CFR |
* * * * *
216.26 | -0084
* * * * * |
223.203(b) | -0399
* * * * *
229.4 | -0293
229.5 | -0292
* * * * * |
260.15 | -0266
260.36 | -0266
260.37 | -0266
260.96 | -0266
260.97 | -0266
* * * * * |
300.34 | -0218
300.35 | -0361
* * * * *
300.107 | -0194
300.108(a) | -0368
300.108(c) | -0367
* * * * * |
300.125 | -0358
* * * * *
600.745 | -0309
* * * * * |
622.4 | -0205
* * * * * |
622.18 | -0205
* * * * * |
635.5(c) | -0328
* * * * * |

[FR Doc. 03-27181 Filed 10-27-03; 8:45 am]

BILLING CODE 3510-22-S